DEPARTMENT OF DEFENSE

Office of the Secretary

Department of Defense Military Family Readiness Council (MFRC); Notice of Federal Advisory Committee Meeting

AGENCY: Department of Defense.

ACTION: Notice.

SUMMARY: The Department of Defense is publishing this notice to announce a Federal advisory committee meeting of the Department of Defense Military Family Readiness Council. This meeting will be open to the public.

DATES: Thursday, June 16, 2016, from 1:00 p.m. to 3:00 p.m.

ADDRESSES: Pentagon Conference Center B6 (escorts will be provided from the Pentagon Metro entrance).

FOR FURTHER INFORMATION CONTACT: Ms. Melody McDonald or Ms. Betsy Graham, Office of the Deputy Assistant Secretary of Defense (Military Community & Family Policy), Office of Family Readiness Policy, 4800 Mark Center Drive, Alexandria, VA 22350-2300, Room 3G15. Telephones (571) 372-0880; (571) 372-0881 and/or email: OSD Pentagon OUSD P-R Mailbox Family Readiness Council, osd.pentagon.ousd-p-r.mbx.family-readiness-council@mail.mil.

SUPPLEMENTARY INFORMATION:

This meeting is being held under the provisions of the Federal Advisory Committee Act of 1972 (5 U.S.C. Appendix, as amended), the Government in the Sunshine Act of 1976 (5 U.S.C. 552b, as amended), and 41 CFR 102-3.150. The purpose of the Council is to review and make recommendations to the Secretary of Defense regarding policy and plans; monitor requirements for the support of military family readiness by the Department of Defense; and evaluate and assess the effectiveness of the military family readiness programs and activities of the Department of Defense.

Pursuant to 5 U.S.C. 552b and 41 CFR 102-3.140 through 102-3.165, this meeting is open to the public, subject to the availability of space. The process for the public entering the Pentagon has changed. Persons without Pentagon access must submit their Full Name, Full SSN, and Date of Birth by fax at 571-372-0884 or email to osd.pentagon.ousd-p-r.mbx.family-readiness-council@mail.mil, no later than 5:00 p.m., on Thursday, June 9, 2016 to arrange for escort inside the Pentagon to the Conference Room area. Pursuant to 41 CFR 102-3.105(j) and 102-3.140, and section 10(a)(3) of the Federal Advisory Committee Act of 1972, interested persons may submit a written statement for consideration by the Council. Persons desiring to submit a written statement to the Council must submit to the email address OSD Pentagon OUSD P-R Mailbox Family Readiness Council, osd.pentagon.ousd-p-r.mbx.family-readiness-council@mail.mil, no later than 5:00 p.m., on Monday, June 6, 2016.

The purpose of this meeting is to receive an update on ongoing items of Council interest, and to determine Military Family Readiness Council focus items for Fiscal Year 2016.

Thursday, June 16, 2016 Meeting Agenda

Welcome & Administrative Remarks

TRICARE for Kids (TFK) Report to Congress: Update from the Office of the Assistant Secretary of Defense for Health Affairs

Financial conditions of military members and their spouses: Survey update from the Defense Manpower and Data Center

Financial Readiness and Force Education: Update from the Office of the Assistant Secretary of Defense for Readiness (Force Education)

Member Discussion and Deliberation

Closing Remarks

Note: Exact order may vary.

Dated: May 13, 2016.
Aaron Siegel,
Alternate OSD Federal Register Liaison Officer, Department of Defense.

[FR Doc. 2016-11736 Filed 5-17-16; 8:45 am]

BILLING CODE 5001-06-P